NUCLEAR REGULATORY COMMISSION

[Docket No. 30-35594-CivP, ASLBP No. 03-811-02-CivP, EA 02-072]

Atomic Safety and Licensing Board; Notice of Hearing

April 30, 2003.

Before Administrative Judges: Thomas S. Moore, Chairman, Dr. Charles N. Kelber, Dr. Peter S. Lam. In the Matter of Advanced Medical Imaging and Nuclear Services (Easton, Pennsylvania); Order Imposing Civil Monetary Penalty.

This proceeding involves a proposed civil penalty of $43,200 sought to be imposed by the Nuclear Regulatory Commission on Advanced Medical Imaging and Nuclear Services (Licensee), for alleged violations of provisions of its license and the Commission's regulations. In response to an Order Imposing a Civil Monetary Penalty, dated February 19, 2003 and published at 68 FR 10049 (Mar. 3, 2003), the Licensee on March 24, 2003 filed a timely request for an enforcement hearing. Thereafter, on April 8, 2003, this Atomic Safety and Licensing Board was established to preside over the hearing. See 68 FR 17969 (Apr. 14, 2003).

Notice is hereby given that by Order dated April 30, 2003, the Atomic Safety and Licensing Board has granted the request for a hearing submitted by the Licensee. This proceeding will be conducted under the Commission's hearing procedures set forth in 10 CFR part 2, subparts B and G. Parties to the proceeding are Advanced Medical Imaging and Nuclear Services and the NRC Staff. The issues to be considered, as set forth in the Order Imposing a Civil Monetary Penalty, are (a) whether the Licensee was in violation of the Commission's requirements as set forth in violations B and C of the written notice of violation and proposed imposition of civil penalty served upon the Licensee by letter dated October 22, 2002; and (b) whether, on the basis of such violations, and the additional violations set forth in the notice of violation that the Licensee admitted, the Order Imposing a Civil Monetary Penalty should be sustained.

Except to the extent an early settlement or other circumstance renders them unnecessary, the Licensing Board may, during the course of this proceeding, conduct one or more prehearing conferences and evidentiary hearing sessions. The time and place of these sessions will be announced in Licensing Board Orders.

For the Atomic Safety and Licensing Board.
Dated in Rockville, Maryland, on April 30, 2003.
Thomas S. Moore,
Administrative Judge.

[FR Doc. 03-11306 Filed 5-6-03; 8:45 am]

BILLING CODE 7590-01-P